DEPARTMENT OF THE INTERIOR

Bureau of Land Management

[NM-915-09-L14200000-BJ]

Notice of Filing of Plats of Survey; New Mexico

AGENCY: Bureau of Land Management, Interior.

ACTION: Notice.

SUMMARY: The plats of survey described below are scheduled to be officially filed in the New Mexico State Office, Bureau of Land Management, Santa Fe, New Mexico, (30) thirty calendar days from the date of this publication.

Indian Meridian, Oklahoma

T. 27 N., R. 19 E., approved June 19, 2008, for Group 164 OK; of the dependent resurvey of the south boundary and subdivisional lines and subdivision of section 35.

T. 16 N., R. 24 E., approved June 27, 2008, for Group 161 OK; of the dependent resurvey of the south boundary and subdivisional lines and subdivision of section 34.

T. 16 N., R. 12 W., approved January 16, 2008, for Group 155 OK; of the dependent resurvey of the subdivisional lines, and the 1873 meanders of the North Fork of the Canadian River in section 15 and subdivision of section 15.

Supplemental Plat, in 8 sheets, for T. 10 N., R. 26 E., Indian Meridian, OK., of Indian claims along the Arkansas River.

New Mexico Principal Meridian, New Mexico

T. 19 N., R. 12 E., approved July 28, 2008, for Group 1068 NM; of the dependent resurvey of the south boundary and subdivisional lines, Homestead Entry Survey No. 295 and subdivision of section 35.

T. 17 S., R. 25 E., approved August 22, 2008, for Group 1074 NM; of the dependent resurvey of the subdivisional lines, subdivision of section 3, and corrective resurvey of the metes and bounds survey in section 3.

T. 17 N., R. 19 W., approved July 2, 2008, for Group 1070 NM; dependent resurvey of the Fourth Standard Parallel and portions of the Navajo Indian Reservation, and the corrective resurvey of the West boundary of the reservation and subdivision of sections 32 and 34.

T. 8 N., R. 14 W., approved August 12, 2008, for Group 1080 NM; of the subdivision of section 14.

T. 11 S., R. 26 E., approved July 28, 2008, for Group 918 NM; of the dependent survey of the west and south boundaries and subdivisional lines, and the subdivision of section 33.

T. 12 S., R. 26 E., approved July 28, 2008, for Group 918 NM; of the corrective resurvey of the north boundary and subdivisional lines, the dependent resurvey of the north boundary and subdivisional lines, and subdivision of sections 5 and 17.

Cebolleta Grant; approved August 21, 2008, for Group 1069 NM; of the dependent resurvey of the west boundary and the metes-and-bounds survey of the Mt. Taylor Ranch Tracts 1 and 2.

If a protest against a survey, as shown on any of the above plats, is received prior to the date of official filing, the filing will be stayed pending consideration of the protest. A plat will not be officially filed until the day after all protests have been dismissed and become final or appeals from the dismissal affirmed.

A person or party who wishes to protest against any of these surveys must file a written protest with the NM State Director, Bureau of Land Management, stating that they wish to protest.

A statement of reasons for a protest may be filed with the notice of a protest to the State Director, or the statement of reasons must be filed with the State Director within thirty (30) days after the protest is filed. The above-listed plats represent dependent resurveys, surveys, and subdivisions.

FOR FURTHER INFORMATION CONTACT: These plats will be available for inspection in the New Mexico State Office, Bureau of Land Management, P.O. Box 27115, Santa Fe, New Mexico, 87502-0115. Copies may be obtained from this office upon payment of $1.10 per sheet.

Dated: October 15, 2008.
Robert A. Casias,
Chief Cadastral Surveyor for New Mexico.

[FR Doc. E8-25127 Filed 10-21-08; 8:45 am]

BILLING CODE 4310-FB-P